DEPARTMENT OF ENERGY

Federal Energy Regulatory Commission

[Project No. 2629-014]

Village or Morrisville, Vermont; Notice of Petition for Declaratory Order

Take notice that on May 28, 2020, the Village of Morrisville (Morrisville), applicant for relicensing the Morrisville Hydroelectric Project No. 2629, filed a petition for declaratory order (petition) pursuant to Rule 207(a)(2) of the Federal Energy Regulatory Commission's Rules of Practice and Procedure, 18 CFR 385.207(a)(2). Morrisville requests that the Commission declare that the Vermont Agency of Natural Resources has waived its authority to issue a certification for the Morrisville Hydroelectric Project under Section 401 of the Clean Water Act, 33 U.S.C. 1341(a)(1), as more fully explained in the petition.

Any person wishing to comment on Morrisville's petition may do so.¹ The deadline for filing comments is 30 days from the issuance of this notice. The Commission encourages electronic submission of comments in lieu of paper using the eFiling link at http://www.ferc.gov. Persons unable to file electronically should send comments to the following address: Federal Energy Regulatory Commission, 888 First Street NE, Washington, DC 20426. Be sure to reference the project docket number (P-2629-014) with your submission.

¹ Morrisville's request is part of its relicensing proceeding in Project No. 2629-014. Thus, any person that intervened in the relicensing proceeding is already a party. The filing of the petition in this case does not trigger a new opportunity to intervene.

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to Commission' s Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on July 1, 2020.

Dated: June 1, 2020.
Nathaniel J. Davis, Sr.,
Deputy Secretary.

[FR Doc. 2020-12219 Filed 6-4-20; 8:45 am]

BILLING CODE 6717-01-P